NATIONAL SCIENCE FOUNDATION

Proposal Review Panel for Materials Research; Notice of Meeting

In accordance with the Federal Advisory Committee Act (Pub. L. 92-463, as amended), the National Science Foundation (NSF) announces the following meeting:

Name and Committee Code: Site visit review of a Materials Innovation Platform on Automating the Synthesis of Rationally Designed Glycomaterials (GlycoMIP) by the NSF Division of Materials Research (DMR). (#1203)

Date and Time: October 25, 2022; 8:45 a.m.-6 p.m.; October 26, 2022; 8:45 a.m.-3 p.m.

Place: Steger Hall, Virginia Polytechnic Institute and State University, 1015 Life Sciences Circle, Blacksburg, VA 24061.

Type of Meeting: Part open.

Contact Person: Z. Charles Ying, Program Director, Division of Materials Research, National Science Foundation, 2415 Eisenhower Avenue, Alexandria, VA 22314, Telephone (703) 292-8428.

Purpose of Meeting: Site visit to provide advice and recommendations concerning further support of the GlycoMIP at Virginia Polytechnic Institute and State University.

Agenda

Tuesday, October 25, 2022

8:45 a.m.-9:15 a.m. Closed—Executive Session

9:15 a.m.-11:30 a.m. Open—Review of GlycoMIP

11:30 a.m.-12:30 p.m. Closed—Executive Session

12:30 p.m.-4:00 p.m. Open—Review of GlycoMIP

4:00 p.m.-6:00 p.m. Closed—Executive Session

Wednesday, October 26, 2022

8:45 a.m.-3:00 p.m. Closed—Executive Session

Reason for Closing: Topics to be discussed and evaluated during the site review will include information of a proprietary or confidential nature, including technical information; and information on personnel. These matters are exempt under 5 U.S.C.552b(c), (4) and (6) of the Government in the Sunshine Act.

Dated: September 14, 2022.
Crystal Robinson,
Committee Management Officer.

[FR Doc. 2022-20216 Filed 9-16-22; 8:45 am]

BILLING CODE 7555-01-P